DEPARTMENT OF THE INTERIOR

Bureau of Land Management

[ES-020-1310-00]

Notice of Intent for Planning Analyses

AGENCY: Bureau of Land Management (BLM), Interior.

ACTION: Notice of Intent for Planning Analyses.

SUMMARY: The Jackson Field Office, Eastern States, will prepare Planning Analyses (PA) for consideration of leasing several scattered tracts of Federal mineral estate for oil and gas exploration and development. The PAs will be prepared in concert with Environmental Analyses (EA).

This notice is issued pursuant to Title 40 Code of Federal Regulations (CFR) 1501.7 and Title 43 CFR 1610.2(c). The planning effort will follow the procedures set forth in 43 CFR Part 1600.

The public is invited to participate in this planning process, beginning with the identification of planning issues and criteria.

DATES: Comments relating to the identification of planning issues and criteria will be accepted for thirty days from the date of this publication.

ADDRESSES: Send comments to Bureau of Land Management. Jackson Field Office, 411 Briarwood Drive, Suite 404, Jackson, Mississippi 39206.

FOR FURTHER INFORMATION CONTACT: Quazi T. Islam, Physical Scientist, Jackson Field Office, (601) 977-5400.

SUPPLEMENTARY INFORMATION: The BLM has responsibility to consider applications to lease Federal mineral estate for oil and gas exploration and development. An interdisciplinary team will be used in the preparation of the PA/EAs. Preliminary issues, subject to change as a result of public input, are (1) potential impacts of oil and gas exploration and development on the surface resources and (2) consideration of restrictions on lease rights to protect surface resources. A separate analysis will be prepared for all tracts within each state. Tract locations, along with acreages, are listed below.

Alabama, Tuscaloosa County, Huntsville Meridian,

T 18 S, R 8 W, Section 8:N½SW¼, 80.0 acres.

Alabama, Tuscaloosa County, Huntsville Meridian,

T 18 S, R 9 W, Section 18:SE¼NW¼, Section 19: NW¼SE¼ & SW¼SW¼; Section 30: NE¼SE¼; and Section 31: SW¼SW¼, 200.0 acres.

Alabama, Tuscaloosa County, Huntsville Meridian,

T 19 S, R 9 W, Section 8:SE¼SE¼, 40.0 acres.

Alabama, Tuscaloosa County, Huntsville Meridian,

T 19 S, R 8 W, Section 30:NW¼NE¼, SW¼NE¼, E½NW¼, & NE¼SW¼, 200.0 acres.

Louisiana, Lafourche Parish, Louisiana Meridian,

T 14 S, R 18 E, Section 19: S½SW¼, 75.48 acres.

Mississippi, Amite County, Washington Meridian,

T 1 N, R 4 E, Section 26: E½NW¼, and all of Section 39, 403.34 acres.

Due to the limited scope of this PA/EA process, public meetings are not scheduled.

Bruce E. Dawson,
Field Manager, Jackson Field Office.

[FR Doc. 01-4317 Filed 2-21-01; 8:45 am]

BILLING CODE 4310-GJ-M